Proclamation 10518 of January 31, 2023

National Black History Month, 2023

By the President of the United States of America

A Proclamation

During National Black History Month, we celebrate the legacy of Black Americans whose power to lead, to overcome, and to expand the meaning and practice of American democracy has helped our Nation become a more fair and just society. This country was established upon the profound but simple idea that all people are created equal and should be treated equally throughout their lives.

It is an idea America has never fully lived up to, but it is an idea we have never fully walked away from either. The struggles and challenges of the Black American story to make a way out of no way have been the crucible where our resolve to fulfill this vision has most often been tested. Black Americans' struggles for freedom, equal treatment, and the right to vote; for equal opportunities in education, housing, and the workplace; for economic opportunity, equal justice, and political representation; and so much more have reformed our democracy far beyond its founding. Black Americans have made a way not only for themselves but also have helped build a highway for millions of women, immigrants, other historically marginalized communities, and all Americans to more fully experience the benefits of our society.

From the start, the Biden-Harris Administration has been committed to using the power of the Federal Government to address the long-standing disparities that have hampered the progress of Black communities. On day one of my Presidency, I issued an Executive Order to advance equity and racial justice in every policy we pursue. I began by appointing the most diverse Cabinet in American history. I have continued to nominate a historic number of Black judges to the Federal bench—including Justice Ketanji Brown Jackson, the first Black woman to serve on the Supreme Court.

During the height of the COVID-19 crisis, my Administration provided relief to hardworking families, which cut the rate of poverty in Black American communities by nearly a third and cut the rate of poverty among Black children by more than half. My health care policies have dramatically increased health care access and reduced costs for Black American families and capped insulin bills for seniors at $35 per month per prescription.

We are also working to address centuries of neglected infrastructure in Black American communities. My Administration is leading the replacement of lead pipes embedded in cities across America so that every child can safely turn on the faucet and drink clean water. We are expanding public transit and providing high-speed internet to every neighborhood in the country so parents can get to work and children can do their homework in the comfort of their own homes.

We are using every avenue to confront racial discrimination in housing and in mortgage lending and to help build generational wealth in Black communities. We are working to ensure that any housing agency that receives Federal funds will reach beyond the simple promise not to discriminate and will instead take meaningful, affirmative steps to overcome historic patterns of segregation, giving every person a fair chance to live where they choose. We are addressing the negative impacts of redlining and other forms of financial discrimination. And we are working to end a discriminatory system of appraisals that assigns lesser values to Black-owned family homes than to similar homes owned by white families.

Additionally, we have invested nearly $6 billion in Historically Black Colleges and Universities. We have also taken historic action to ease the burden of crippling student debt—action which benefits so many Black students and families. I am proud to have permanently authorized the Minority Business Development Agency and to have given it expanded authority to help grow Black-owned businesses. I have set a goal to increase the share of Federal contracting dollars going to small disadvantaged businesses by 50 percent by 2025, which will bring up to an additional $100 billion in capital to these businesses.

In May 2022, I signed an Executive Order promoting effective, accountable, and transparent community policing—delivering the most significant police reform in decades. Among other important measures that increase transparency and accountability, it raises policing standards by banning choke holds, restricting no knock warrants, and requiring body-worn cameras on patrols and during searches and arrests. It creates a new national law enforcement database to track records of misconduct, and it aims to safely reduce incarceration, support rehabilitation and reentry, and address racial disparities in our criminal justice system. Additionally, I signed three new hate crime bills, including the Emmett Till Antilynching Act which finally made lynching a Federal crime.

Equal access to the ballot box is the beating heart of our democracy. Without it, nothing is possible; with it, anything is. I restored the Civil Rights Division of the Department of Justice, appointing top attorneys to oversee enforcement of civil rights laws, and the Department has doubled the voting rights enforcement staff. Every agency of my Administration has been ordered to expand access to voter registration and election information. These are all important steps, but I will continue to push the Congress to repair the damage to voting rights in this country by passing the John Lewis Voting Rights Advancement and Freedom to Vote Acts, to ensure every American has a voice in the democratic process.

This year, on what would have been Dr. King's 94th birthday, I was honored to be the first sitting President to deliver a sermon at Sunday service at his cherished Ebenezer Baptist Church in Atlanta. The life of Dr. King demonstrates that democracy is an enduring covenant that must be persistently renewed; nothing about it is guaranteed. During National Black History Month, we honor and continue the work of Black Americans who have created a more fair and inclusive democracy, helping our Nation move closer to the realization of its full promise for everyone.

NOW, THEREFORE, I, JOSEPH R. BIDEN JR., President of the United States of America, by virtue of the authority vested in me by the Constitution and the laws of the United States, do hereby proclaim February 2023 as National Black History Month. I call upon public officials, educators, librarians, and all the people of the United States to observe this month with relevant programs, ceremonies, and activities.

IN WITNESS WHEREOF, I have hereunto set my hand this thirty-first day of January, in the year of our Lord two thousand twenty-three, and of the Independence of the United States of America the two hundred and forty-seventh.

[FR Doc. 2023-02431

Filed 2-2-23; 8:45 am]

Billing code 3395-F3-P